INTERNATIONAL TRADE COMMISSION

[Investigation Nos. 701-TA-318 and 731-TA-538 and 561 (Second Review)]

Sulfanilic Acid From China and India

Determinations

On the basis of the record ¹ developed in the subject five-year reviews, the United States International Trade Commission (“Commission”) determines, pursuant to section 751(c) of the Tariff Act of 1930 (19 U.S.C. 1675(c)) (“the Act”), that revocation of the countervailing duty order on sulfanilic acid from India and the antidumping duty orders on sulfanilic acid from China and India would be likely to lead to continuation or recurrence of material injury to an industry in the United States within a reasonably foreseeable time.

¹ The record is defined in sec. 207.2(f) of the Commission's Rules of Practice and Procedure (19 CFR 207.2(f)).

Background

The Commission instituted these reviews on May 2, 2005 (70 FR 22698) and determined on August 5, 2005 that it would conduct full reviews (70 FR 48588, August 18, 2005). Notice of the scheduling of the Commission's reviews and of a public hearing to be held in connection therewith was given by posting copies of the notice in the Office of the Secretary, U.S. International Trade Commission, Washington, DC, and by publishing the notice in the Federal Register on September 20, 2005 (70 FR 55165). The hearing was held in Washington, DC, on January 26, 2006, and all persons who requested the opportunity were permitted to appear in person or by counsel.

The Commission transmitted its determinations in these reviews to the Secretary of Commerce on April 21, 2006. The views of the Commission are contained in USITC Publication 3849 (April 2006), entitled Sulfanilic Acid from China and India: Investigation Nos. 701-TA-318 and 731-TA-538 and 561 (Second Review).

By order of the Commission.
Issued: April 21, 2006.
Marilyn R. Abbott,
Secretary to the Commission.

[FR Doc. E6-6309 Filed 4-26-06; 8:45 am]

BILLING CODE 7020-02-P